ENVIRONMENTAL PROTECTION AGENCY

[FRL-9909-58-OA]

Notification of a Public Teleconference of the Great Lakes Advisory Board

AGENCY: Environmental Protection Agency (EPA).

ACTION: Notice.

SUMMARY: The Environmental Protection Agency (EPA) announces a public teleconference of the Great Lakes Advisory Board (Board). The purpose of the teleconference is to set the Board's work schedule for 2014.

DATES: The teleconference will be held on Tuesday, April 22, 2014 from 10:00 a.m. to 12 p.m. Central Time, 11:00 a.m. to 1:00 p.m. Eastern Time. The teleconference number is: (877) 744-6030; Participant code: 24653386. An opportunity will be provided to the public to comment during the teleconference.

ADDRESSES: The public teleconference will take place by telephone only.

FOR FURTHER INFORMATION: Any member of the public wishing further information regarding this teleconference may contact Taylor Fiscus, Acting Designated Federal Officer (DFO) by telephone at 312-353-6059 or email at mailto:Fiscus.Taylor@epa.gov. General information on the Great Lakes Restoration Initiative (GLRI) and the Board can be found on the GLRI Web site at http://www.glri.us.

SUPPLEMENTARY INFORMATION: Background: The Board is a federal advisory committee chartered under the Federal Advisory Committee Act (FACA), Public Law 92-463. EPA established the Board in 2013 to provide independent advice to the EPA Administrator in her capacity as Chair of the federal Great Lakes Interagency Task Force (IATF). The Board conducts business in accordance with FACA and related regulations.

The Board consists of 18 members appointed by EPA's Administrator in her capacity as IATF Chair. Members serve as representatives of state, local and tribal government, environmental groups, agriculture, business, transportation, foundations, educational institutions, and as technical experts.

The Board held teleconferences and meetings in 2013 to develop recommendations for the FY 2015-2019 GLRI Action Plan. In December 2013, the Board issued its Advisory Report. See http://greatlakesrestoration.us/advisory/index.html.

Availability of Teleconference Materials: The agenda and other materials in support of the teleconference will be available on the GLRI Web site at http://www.glri.us in advance of the teleconference.

Procedures for Providing Public Input: Federal advisory committees provide independent advice to federal agencies. Members of the public can submit relevant comments for consideration by the Board. Input from the public to the Board will have the most impact if it provides specific information for the Board to consider. Members of the public wishing to provide comments should contact the Acting DFO directly.

Oral Statements: In general, individuals or groups requesting an oral presentation at this public teleconference will be limited to three minutes per speaker, subject to the number of people wanting to comment. Interested parties should contact the Acting DFO in writing (preferably via email) at the contact information noted above by April 21, 2014 to be placed on the list of public speakers for the teleconference.

Written Statements: Written statements must be received by April 21, 2014 so that the information may be made available to the Board for consideration. Written statements should be supplied to the Acting DFO in the following formats: One hard copy with original signature and one electronic copy via email. Commenters are requested to provide two versions of each document submitted: One each with and without signatures because only documents without signatures may be published on the GLRI Web page.

Accessibility: For information on access or services for individuals with disabilities, please contact the Acting DFO at the phone number or email address noted above, preferably at least 10 days prior to the teleconference, to give EPA as much time as possible to process your request.

Dated: April 3, 2014.
Cameron Davis,
Senior Advisor to the Administrator.

[FR Doc. 2014-08333 Filed 4-11-14; 8:45 am]

BILLING CODE 6560-50-P